INTERNATIONAL TRADE COMMISSION

[Investigation Nos. 701-TA-670 and 731-TA-1570 (Preliminary)]

Freight Rail Coupler Systems and Components From China

Determinations

On the basis of the record ¹ developed in the subject investigations, the United States International Trade Commission (“Commission”) determines, pursuant to the Tariff Act of 1930 (“the Act”), that there is a reasonable indication that an industry in the United States is materially injured by reason of imports of freight rail coupler systems and components from China, provided for in subheading 8607.30.10 of the Harmonized Tariff Schedule of the United States, that are alleged to be sold in the United States at less than fair value (“LTFV”) and to be subsidized by the government of China.²

¹ The record is defined in § 207.2(f) of the Commission's Rules of Practice and Procedure (19 CFR 207.2(f)).

² 86 FR 58864 (October 25, 2021) and 86 FR 58878 (October 25, 2021).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 29, 2021, the Coalition of Freight Coupler Producers consisting of McConway & Torley LLC (“M&T”), Pittsburgh, PA, and the United Steel, Paper and Forestry, Rubber, Manufacturing, Energy, Allied Industrial and Service Workers International Union, AFL-CIO, CLC (“USW”) filed petitions with the Commission and Commerce,³ alleging that an industry in the United States is materially injured or threatened with material injury by reason of subsidized imports of freight rail coupler systems and components from China and LTFV imports of freight rail coupler systems and components from China. Accordingly, effective September 29, 2021, the Commission instituted countervailing duty investigation No. 701-TA-670 and antidumping duty investigation No. 731-TA-1570 (Preliminary).

³ Initially, Petitioner was M&T and another domestic producer. However, the other domestic producer withdrew, and USW was added to the petitions.

Notice of the institution of the Commission's investigations and of a public conference to be held in connection therewith was given by posting copies of the notice in the Office of the Secretary, U.S. International Trade Commission, Washington, DC, and by publishing the notice in the Federal Register of October 5, 2021 (86 FR 54997). In light of the restrictions on access to the Commission building due to the COVID-19 pandemic, the Commission conducted its conference through written testimony and video conference on October 20, 2021. All persons who requested the opportunity were permitted to participate.

The Commission made these determinations pursuant to §§ 703(a) and 733(a) of the Act (19 U.S.C. 1671b(a) and 1673b(a)). It completed and filed its determinations in these investigations on November 15, 2021. The views of the Commission are contained in USITC Publication 5243 (November 2021), entitled Freight Rail Coupler Systems and Components from China: Investigation Nos. 701-TA-670 and 731-TA-1570 (Preliminary).

By order of the Commission.
Issued: November 15, 2021.
Lisa Barton,
Secretary to the Commission.

[FR Doc. 2021-25233 Filed 11-18-21; 8:45 am]

BILLING CODE 7020-02-P